ENVIRONMENTAL PROTECTION AGENCY

[EPA-HQ-OPPT-2024-0057; FRL-11683-04-OCSPP]

Certain New Chemicals; Receipt and Status Information for April 2024

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 4/01/2024 to 4/30/2024.

DATES: Comments identified by the specific case number provided in this document must be received on or before June 20, 2024.

ADDRESSES: Submit your comments, identified by docket identification (ID) number EPA-HQ-OPPT-2024-0057, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT:

For technical information contact: Jim Rahai, Project Management and Operations Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 4/01/2024 to 4/30/2024. The Agency is providing notice of receipt of PMNs, SNUNs, and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: https://www.epa.gov/chemicals-under-tsca.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. Status Reports

In the past, EPA has published individual notices reflecting the status of TSCA section 5 filings received, pending, or concluded. In 1995, the Agency modified its approach and streamlined the information published in the Federal Register after providing notice of such changes to the public and an opportunity to comment (see the Federal Register of May 12, 1995 (60 FR 25798) (FRL-4942-7)). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 4/01/2024 to 4/30/2024
Case No. | Version | Received date | Manufacturer | Use | Chemical substance
J-24-0014 | 1 | 04/09/2024 | CBI | (G) Biopolymer production | (G) Biopolymer producing modified microorganism, with chromosomally located modifications.
J-24-0015 | 1 | 04/09/2024 | CBI | (G) Biopolymer production | (G) Biopolymer producing modified microorganism, with chromosomally located modifications.
J-24-0016 | 1 | 04/11/2024 | CBI | (G) Chemical production | (G) Chromosomally modified Saccharomyces cerevisiae.
J-24-0017 | 1 | 04/11/2024 | CBI | (G) Chemical production | (G) Chromosomally modified Saccharomyces cerevisiae.
J-24-0018 | 1 | 04/11/2024 | CBI | (G) Chemical production | (G) Chromosomally modified Saccharomyces cerevisiae.
J-24-0019 | 1 | 04/11/2024 | CBI | (G) Chemical production | (G) Chromosomally modified Saccharomyces cerevisiae.
P-21-0059A | 3 | 04/14/2024 | CBI | (G) Stabilizer | (S) Methanesulfonic acid,1,1,1-trifluoro-, ytterbium(3+) salt (3:1).
P-22-0059A | 3 | 04/24/2024 | AB Enzymes, Inc | (S) Use of enzyme in laundry and dishwashing detergents | (S) Thermomycolin, fermented, from a modified Trichoderma reesei.
P-22-0157A | 7 | 04/19/2024 | Evonik Corporation | (S) Polyurethane catalyst | (S) 1,2-Ethanediamine, N1,N2-dimethyl-N1-(1-methylethyl)-N2-[2-[methyl(1-methylethyl)amino]ethyl]-.
P-22-0157A | 8 | 04/26/2024 | Evonik Corporation | (S) Polyurethane catalyst | (S) 1,2-Ethanediamine, N1,N2-dimethyl-N1-(1-methylethyl)-N2-[2-[methyl(1-methylethyl)amino]ethyl]-.
P-23-0022A | 4 | 04/03/2024 | Cabot Corporation | (G) Additive used in industrial applications | (G) Multi-walled carbon nanotubes.
P-23-0023A | 4 | 04/03/2024 | Cabot Corporation | (G) Additive used in industrial applications | (G) Multi-walled carbon nanotubes.
P-23-0024A | 4 | 04/03/2024 | Cabot Corporation | (G) Additive used in industrial applications | (G) Multi-walled carbon nanotubes.
P-23-0123A | 2 | 04/29/2024 | CBI | (G) A polymer of insulating materials | (G) Phenol, Polyalkylcarbomonocycle bis-, polymer with 2-carbomonocyclichaloheteromonocycle, bis[(alkenylcarbomonocyclic)alkyl] ether.
P-23-0174A | 6 | 04/05/2024 | CBI | (G) Component used in battery manufacturing | (G) Mixed metal oxide.
P-23-0174A | 7 | 04/10/2024 | CBI | (G) Component used in battery manufacturing | (G) Mixed metal oxide.
P-23-0174A | 8 | 04/23/2024 | CBI | (G) Component used in battery manufacturing | (G) Mixed metal oxide.
P-23-0174A | 9 | 04/24/2024 | CBI | (G) Component used in battery manufacturing | (G) Mixed metal oxide.
P-23-0181A | 2 | 04/09/2024 | CBI | (G) Used as adhesive | (G) Alkanedioic acid, polymer with mixed alkanediol, polyalkyl glycol, carbomonocycle carbomonocycle, alkane carbopolycycle diisocyanate.
P-24-0082A | 3 | 04/10/2024 | CBI | (G) Additive used in 3D printing ink formulations | (S) 2-Propenoic acid, 3-bromo-2,2-bis(bromomethyl)propyl ester.
P-24-0100A | 2 | 04/04/2024 | CBI | (G) Wetting agent | (G) sulfonyl carbamate of propoxylated alkyl alcohol.
P-24-0101A | 2 | 04/04/2024 | CBI | (G) Wetting agent | (G) sulfonyl carbamate of ethoxy/propoxylated alkyl alcohol ethoxy.
P-24-0104 | 1 | 04/02/2024 | CBI | (G) Plastic additive | (G) carbomonocycle alkylamide, 3,5-bis(1,1-dialkyl)-N-[3-alkylene-2,5-dioxo-1- heteromonocyclic]-4-hydroxy-.
P-24-0105 | 1 | 04/04/2024 | CBI | (G) Raw material of polyurethane | (G) Carbonic acid diaryl ester with alkanediol.
P-24-0106 | 1 | 04/08/2024 | CBI | (S) Plasticizer/stabilizer for flexible polyvinyl chloride (PVC), polylactic acid (PLA), and nitrile butadiene rubber (NBR) | (G) Glycerides, alkyl, epoxidized, alkyl esters.
P-24-0107 | 1 | 04/08/2024 | CBI | (S) Plasticizer/stabilizer for flexible polyvinyl chloride (PVC), polylactic acid (PLA), and nitrile butadiene rubber (NBR) | (G) Glycerides, alkyl, epoxidized, alkyl esters.
P-24-0108 | 1 | 04/09/2024 | Wacker Chemical Corporation | (S) React and in polymerization reactions to produce low concern polymers | (S) 2,5-Furandione, dihydro-3-(2-propenyl)-.
P-24-0109 | 1 | 04/09/2024 | CBI | (G) Electrolyte salt | (G) Lithium dihalo (oxalato)borate(1-).
P-24-0109A | 2 | 04/18/2024 | CBI | (G) Electrolyte salt | (G) Lithium dihalo (oxalato)borate(1-).
P-24-0110 | 1 | 04/11/2024 | US Paint Corp. | (G) Component of coating | (G) Alkyl fatty acids, polymers with substituted heteropolycyclic, substituted carbomonocycle, carbomonocyclic dicarboxylic acid and trisubstituted alkyl, substituted alkyl alkenoate-blocked, polymers with substituted alkene, substituted bis alkylalkanenitrile-initiated heteromonocyclic alkenoate-substituted alkanoic acid-alkyl alkenoate polymer alkenoate, heteromonocyclic alkenoate, substituted alkyl alkenoate, alkyl alkenoate, alkyl alkenoate, alkenoic acid and substituted carbomonocycle, alkyl substituted alkyl alkanoate initiated,- and substituted bis alkylalkanenitrile-initiated.
P-24-0111 | 2 | 04/30/2024 | CBI | (S) Hardener for use in paints, coatings, and adhesives | (G) Formaldehyde, polymer with aminoalkyl-(aminoalkyl)amino(alkyl)-alkaneamine, alkanediylbis(oxyalkylene)(oxirane), 4,4′-(1-methylethylidene)bis[phenol] and 2,2′-[(1-methylethylidene)bis(4,1-phenyleneoxymethylene)]bis[oxirane], modified with (aminoalkyl)amino(alkyl)amino-phenoxy-alkanol and alkyl modified-ether, salts.
P-24-0112 | 2 | 04/18/2024 | Swan Chemical, Inc | (S) Rubber accelerator for the manufacture of rubber articles | (S) 2,2′-dithio di(ethylammonium)-bis(dibenzyldithiocarbamate).
P-24-0112A | 3 | 04/26/2024 | CBI | (S) Rubber accelerator for the manufacture of rubber articles | (S) Carbamodithioic acid, N,N,-bis(phenylmethyl)-, compd. with 2,2′-dithiobis[ethanamine](2:1).
P-24-0113 | 1 | 04/12/2024 | CBI | (S) Adhesion and curing agent for use in paints and adhesives | (G) Epoxidized D-glucitol.
P-24-0115 | 1 | 04/12/2024 | PCI Synthesis | (S) Additive (e.g., solvent, cleaning agent, coalescent) used in spray-applied products (e.g., paints, coatings, inks, toner); Additive (e.g., paints, coatings, solvent, cleaning agent, coalescent) used in non-spray applied products (e.g., adhesives, sealants, thinners, paint removers, anti-freeze and de-icing products, fillers, putties, plasters, clays, tabletting, compression, extrusion, pelletization, granulation, surface treatment, leather treatment, lubricants, greases, waxes, polishes, release products, degreasers) | (S) Pentanedioic acid, 1,5-dibutyl ester.
P-24-0122 | 1 | 04/12/2024 | CBI | (G) Intermediate for Electronic Industry | (G) Sulfonium, polyphenyl(substituted phenyl) alkylbenzenesulfonate.
P-24-0124 | 1 | 04/16/2024 | US Paint Corp | (G) Component of coating | (G) Alkyl alkenoic acid, alkyl ester, polymer with substituted carbomonocycle, substituted alkyl alkyl alkenoate phosphate, substituted alkyl alkyl alkenoate, alkyl alkenoate, heteromonocycle polymer, substitutes alkenyl substituted alkyl ester, alkyl substituted alkyl alkanoate initiated.
P-24-0124A | 2 | 04/23/2024 | US Paint Corp | (G) Component of coating | (G) Alkyl alkenoic acid, alkyl ester, polymer with substituted carbomonocycle, substituted alkyl alkyl alkenoate phosphate, substituted alkyl alkyl alkenoate, alkyl alkenoate, heteromonocycle polymer, substitutes alkenyl substituted alkyl ester, alkyl substituted alkyl alkanoate initiated.
P-24-0124A | 3 | 04/23/2024 | US Paint Corp | (G) Component of coating | (G) Alkyl alkenoic acid, alkyl ester, polymer with substituted carbomonocycle, substituted alkyl alkyl alkenoate phosphate, substituted alkyl alkyl alkenoate, alkyl alkenoate, heteromonocycle polymer, substitutes alkenyl substituted alkyl ester, alkyl substituted alkyl alkanoate initiated.
P-24-0126 | 2 | 04/25/2024 | CBI | (G) component in resin | (G) Poly(oxyalkanediyl), alpha-hydro-omega-hydroxy-, polymer with disubstituted carbomonocycle, glycerol 1,3-disubstituted-blocked.
P-24-0129 | 1 | 04/18/2024 | CBI | (G) Monomer | (G) Alkanoic acid, mercapto-, ((((mercapto-oxoalkoxy)-(mercapto-oxoalkoxy)alkyl)alkoxy)alkyl)-((mercapto-oxoalkoxy)alkyl)-alkanediyl] ester.
P-24-0130 | 1 | 04/18/2024 | CBI | (S) Sulfur Scavenger | (G) poly(alkoxy)alkanol.
P-24-0131 | 1 | 04/18/2024 | Cargill, Incorporated | (S) Use as a lubricant in electric vehicle transmission fluid and in engine oil | (G) Alkanoic acid, 2-alkylalkyl ester.
P-24-0132 | 1 | 04/18/2024 | CBI | (G) Sizing agent | (S) Sunflower oil, oleic acid-high, maleated.
P-24-0134 | 2 | 04/29/2024 | Chevron Phillips Chemical Company, LP | (G) Chemical intermediate | (G) Metal oxalate.
P-24-0135 | 2 | 04/25/2024 | ArrMaz Products, Inc | (S) Anti-caking additive | (S) Phosphoric acid, mono- and di-C16-18-alkyl esters.
P-24-0138 | 1 | 04/19/2024 | CBI | (G) UV-absorber | (G) Phenol, dialkylalkyl[(alkyl hetero-acyl)heteropolycyclic]alkyl-.
P-24-0146 | 1 | 04/20/2024 | CBI | (G) Display Materials | (G) Benzene,[alkyl [polycycloalkyl]-yl] polyfluoro-alkyl-.
SN-24-0005 | 1 | 04/17/2024 | CBI | (G) Paint | (G) Dicarboxylic acids, polymers with alkanoic acid, alkanediol, susbtituted-alkylalkanoic acid, substituted alkyl carbomonocyle, alkanedioic acid and alkanediol, alkanolamine blocked, compds with alkanolamine.
SN-24-0006 | 1 | 04/17/2024 | CBI | (G) Paint | (G) Dicarboxylic acids, polymers with alkanoic acid, alkanediol, susbtituted-alkylalkanoic acid, substituted alkyl carbomonocyle, alkanedioic acid and alkanediol, alkanolamine blocked, compds with alkanolamine.
* The term ‘Approved’ indicates that a submission has passed a quick initial screen ensuring all required information and documents have been provided with the submission prior to the start of the 90-day review period, and in no way reflects the final status of a complete submission review.

In Table II of this unit, EPA provides the following information (to the extent that such information is not subject to a CBI claim) on the TMEs and/or Biotech Exemptions received by EPA during this period: The EPA case number assigned to the TME and/or Biotech Exemption, the submission document type (initial or amended), the version number, the date the TME and/or Biotech Exemption was received by EPA, the submitting manufacturer (i.e., domestic producer or importer), the potential uses identified by the manufacturer in the TME and/or Biotech Exemption, and the chemical substance identity.

Table II—TMEs and Biotech Exemptions Received From 4/1/2024 to 4/30/2024
Case No. | Submission type | Version | Received date | Manufacturer | Use | Chemical substance
T-24-0001 | Test Marketing Exemption Application (TMEA) | 2 | 04/15/2024 | Zschimmer & Schwarz | (S) Raw material in ester manufacturing, to be fully consumed | (G) Isomerized alkane derivs.
T-24-0001A | Test Marketing Exemption Application (TMEA) | 3 | 04/18/2024 | Zschimmer & Schwarz | (S) Raw material in ester manufacturing, to be fully consumed | (G) Isomerized alkane derivs.

In Table III of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table III—NOCs Approved* From 4/1/2024 to 4/30/2024
Case No. | Received date | Commencement date | If amendment, type of amendment | Chemical substance
P-19-0054A | 04/23/2024 | 06/22/2021 | This NOC is amended to cover 1 of the 2 substances produced. A separate NOC document will be submitted for the second of the 2 substances produced | (G) Polyamines, reaction products with succinic anhydride polyalkenyl derivs., metal salts.
P-19-0095 | 04/24/2024 | 03/26/2024 | N | (G) Poly hydroxy alkanoate.
P-19-0179 | 04/29/2024 | 04/29/2024 | N | (S) Benzoic acid, 4-chloro-2-methyl-.
P-19-0183 | 04/29/2024 | 04/29/2024 | N | (S) Benzoic acid, 4-chloro-2-methyl-, sodium salt (1:1).
P-20-0147 | 04/01/2024 | 03/27/2024 | N | (G) Substituted-2h-thiopyrylium, salt with fluoroalkyl tricycloalkane-carboxylate (1:1).
P-21-0151 | 04/15/2024 | 04/15/2024 | N | (G) Soybean oil, epoxidized, polymer with bisphenol a, alkyl glycidyl ether, epichlorohydrin, polyethylene glycol and trihydroxyalkane.
P-21-0164 | 04/03/2024 | 03/19/2024 | N | (S) From EPA approval notice: equilibrium product of trimethoxymethylsilane and 2-butanone, oxime from cas letter prior to pmn approval: 2-butanone, oxime, reaction products with trimethoxymethylsilane.
P-22-0055 | 04/04/2024 | 04/03/2024 | N | (G) Aromatic sulfonium tricyclo fluoroalkyl sulfonic acid salt.
* The term ‘Approved’ indicates that a submission has passed a quick initial screen ensuring all required information and documents have been provided with the submission.

In table IV of this unit, EPA provides the following information (to the extent such information is not subject to a CBI claim) on the test information that has been received during this time period: The EPA case number assigned to the test information; the date the test information was received by EPA, the type of test information submitted, and chemical substance identity.

Table IV—Test Information Received From 4/1/2024 to 4/30/2024
Case No. | Received date | Type of test information | Chemical substance
P-14-0712 | 03/29/2024 | Polychlorinated Dibenzodioxins and Polychlorinated dibenzofurans Testing | (S) Waste plastics, pyrolyzed, C5-55 fraction.
P-22-0126 | 04/26/2024 | Particle Size, Fiber Length, and Diameter Distribution (OECD Test Guideline 110) | (S) Cellulose, polymer with 1,1′-[2-ethyl-2-[(3-mercapto-1-oxopropoxy)methyl]-1,3-propanediyl] bis(3-mercaptopropanoate) and 1,2,3-propanetriol bis(2-methyl-2-propenoate), peroxydisulfuric acid ([(ho)s(o)2]2o2) ammonium salt (1:2)- and sodium (disulfite) (2:1)-initiated.
P-23-0120 | 04/03/2024 | Particulates Not Otherwise Regulated, Total (NIOSH Test Guideline 0500) | (G) Cobalt lithium manganese nickel oxide, metals.
P-24-0133 | 04/22/2024 | Molecular weight determination, Skin Irritation Test, Acute Ecotoxicity in Daphnia, Ecotoxicity in Algae, Eye Irritation Test, Acute Ecotoxicity in Fish, Chronic Ecotoxicity in Daphnia | (S) Siloxanes and Silicones, di-Me, hydrogen-terminated, polymers with 1,6-diisocyanatohexane and polyethylene glycol monoallyl ether, N3-[3-(dimethylamino)propyl]-N1,N1-dimethy1-1,3-propanediamine-blocked.
P-24-0135 | 04/19/2024 | 14-Day Repeated Dose Oral Range Finding Test, 90-Day Repeated Dose Oral Toxicity Study, Pre-Natal Development Toxicity Study, Bacterial Reverse Mutation Assay (Ames Test), In Vitro Micronucleus Test in Human Lymphocytes, In Vitro Mutation Test using Mouse Lymphoma Cells, Reproduction and Growth of the Earthworm Test, Seedling Emergence and Seedling Growth Test, Soil Microflora, Nitrogen, and Carbon Transformation Test, Ready Biodegradation Test, Feasibility Test in Aerobic Aquatic Sediment, Feasibility Test in Aerobic Soil, Acute Oral Toxicity Test, EPISKIN Skin Irritation Test, Eye Irritation (BCOP) Test, Skin Sensitization (LLNA) Test, Multi-Endpoint Physical Properties Tests, Hazardous Physical Properties Tests, Vapor Pressure Test, Flammability Test, Fish Early Life Stage Test, Acute Daphnia Test, Daphnia Reproduction Test, Algal Growth Inhibition Test, Respiration Inhibition Test with Activated Sludge | (S) Phosphoric acid, mono- and di-C16-18-alkyl esters.
P-24-0049, P-24-0050, P-24-0051, P-24-0052, P-24-0053, P-24-0054, P-24-0055, P24-0056, P-24-0057 | 04/25/2024 | Vapor Pressure Measurements | (G) Heteromonocyclic functionalized fatty amides, (G) Sodium salts of functionalized fatty acids, (G) Functionalized fatty amidoamine, (G) Functionalized fatty acids, (G) Fatty acid polyamine condensate, (G) Fatty acid polyamine condensate, (G) Fatty acid polyamine condensate, (G) Fatty acid polyamine condensate, (G) Fatty amidoamine.
P-24-0137 | 04/19/2024 | Acute Eye Irritation/Corrosion, Two-generation Reproduction Toxicity Study, Daphnia Magna Reproduction Study, OECD HT—Two-generation reproduction, OECD-HT—Acute Eye Irritation Corrosion, OECD HT—Daphnia Magna Reproduction, 90-day oral toxicity study in rats, Activated sludge, respiration inhibition test, 90-Day Oral Toxicity Study in Rats, Acute dermal irritation-corrosion, Acute dermal toxicity in rats, Acute eye irritation-corrosion test, Acute oral toxicity in rats, Acute Toxicity in Fish, Algae growth inhibition test, Acute Toxicity to Algae, Adsorption-Desorption test, Ames Test, Acute Toxicity to Daphnia sp., OECD HT—90-Day Oral Toxicity Study in Rats, OECD HT—Ames Test, OECD-HT—Activated sludge, respiration inhibition test, OECD-HT—Acute dermal irritation-corrosion, OECD-HT—Acute dermal toxicity in rats, OECD-HT—Acute eye irritation-corrosion test, OECD-HT—Acute oral toxicity in rats, OECD-HT—Acute Toxicity in Fish, OECD-HT—Acute Toxicity to Algae, OECD-HT—Adsorption-desorption study, OECD-HT—Adsorption-Desorption test, OECD-HT—Algae growth inhibition test, OECD-HT—Acute Toxicity to Daphnia sp., Acute Dermal Toxicity Study in Rats, Acute Oral Toxicity Study in Rats, OECD-HT—Acute Dermal Toxicity Study in Rats, OECD-HT—Acute Oral Toxicity Study in Rats, Review of 2-Gen Reproductive Toxicity Study, Seed Germination and Root Elongation Toxicity Test, Sediment/Water Toxicity Test with Chironomus yoshimatsui, Skin sensitization study in guinea pigs, Two-generation Reproduction Toxicity Study, Teratogenicity Test in Rats, OECD-HT—Skin sensitization study in guinea pigs, OECD HT—Seed Germination and Root Elongation Toxicity Test, OECD-HT—SedimentWater Toxicity Test, OECD HT—Two-generation Reproduction Toxicity Study, Daphnia sp. acute immobilization test, Daphnia magna reproduction test, Earthworm, acute toxicity test, Daphnia sp. reproduction test, Fish short-term toxicity test on embryo and sac-fry stages, Fish Acute Toxicity Test, In Vitro Mammalian Cell Gene Mutation Test, In vitro mammalian chromosome aberration study, In vitro skin irritation test-human skin model test, In vitro mammalian chromosome aberration test, Prenatal Development Toxicity Study in Rats, In vitro test for gene mutations, Inherent Biodegradability Test, Ready Biodegradability Study, OECD-HT—Daphnia magna reproduction test, OECD HT—In Vitro Mammalian Cell Gene Mutation Test, OECD HT—In vitro test for gene mutations, OECD-HT—In vitro skin irritation test-human skin model test, OECD-HT—Daphnia sp. acute immobilization test, OECD-HT—Daphnia sp. reproduction test, OECD-HT—Earthworm, acute toxicity test, OECD-HT—Fish Acute Toxicity Test, OECD-HT—Fish short-term toxicity test on embryo and sac-fry stages, OECD-HT—Inherent Biodegradability Test, OECD-HT—Ready Biodegradability Study, OECD HT—In vitro mammalian chromosome aberration test, OECD HT—In vitro mammalian chromosome aberration study, OECD HT—Prenatal Development Toxicity Study in Rats | (G) Alkene, reaction products with oxide, hydrolyzed, alkali metal salts.

If you are interested in information that is not included in these tables, you may contact EPA's technical information contact or general information contact as described under FOR FURTHER INFORMATION CONTACT to access additional non-CBI information that may be available.

Authority: 15 U.S.C. 2601 et seq.

Dated: May 16, 2024.
Pamela Myrick,
Director, Project Management and Operations Division, Office of Pollution Prevention and Toxics.

[FR Doc. 2024-11157 Filed 5-20-24; 8:45 am]

BILLING CODE 6560-50-P